ENVIRONMENTAL PROTECTION AGENCY

[ER-FRL-6690-7]

Environmental Impacts Statements; Notice of Availability

Responsible Agency: Office of Federal Activities, General Information (202) 564-7167 or http://www.epa.gov/compliance/nepa/.

Weekly receipt of Environmental Impact Statements filed 08/27/2007 through 08/31/2007.

Pursuant to 40 CFR 1506.9.

EIS No. 20070374, Final EIS, SFW, PR, Vieques National Wildlife Refuge Comprehensive Conservation Plan, Implementation, Vieques, PR. Wait Period Ends: 10/09/2007. Contact: Jim Oland 410-573-4592.

EIS No. 20070375, Final EIS, AFS, AK, Kuiu Timber Sale Area, Proposes to Harvest Timber and Build Associated Temporary Roads, U.S. Army COE section 10 and 404 Permits, North Kuiu Island, Petersburg Ranger District, Tongass National Forest, AK. Wait Period Ends: 10/09/2007. Contact: Tiffany Benna 907-772-3871.

EIS No. 20070376, Final EIS, FRC, 00, Hells Canyon Hydroelectric Project, Application for Relicensing to Authorize the Continued Operation of Hydroelectric Project, Snake River, Washington and Adams Counties, ID and Wallowa and Baker Counties, OR. Wait Period Ends: 10/09/2007. Contact: Andy Black 1-866-208-3372.

EIS No. 20070377, Draft EIS, COE, TN, Center Hill Dam and Lake Project, Changes to Operational Guide Curves Pool Elevations, Chancey Fork River and Cumberland River, Dekalb County, TN. Comment Period Ends: 10/23/2007. Contact: Joy Broach 615-736-7956.

EIS No. 20070378, Final EIS, VAD, CA, Fort Rosecrans National Cemetery Annex, Construction and Operation, Located at Marine Corps Air Station (MCAS) Miramar, Point Loma, San Diego County, CA. Wait Period Ends: 10/09/2007. Contact: Hiphill Clemente 619-532-3781.

Amended Notices

EIS No. 20070253, Draft EIS, BIA, NM, Desert Rock Energy Project, Construction and Operation of Coal-Fired Power Plant, Right-of-Way Permit, Navajo Nation Indian Reservation, San Juan County, NM, Comment Period Ends: 10/09/2007. Contact: Harrilene Yazzie 505-863-8286.

Revision of FR Notice Published 06/22/2007: Reopening Comment Period from 8/20/2007 to 10/09/2007.

Dated: September 4, 2007.
Ken Mittelholtz,
Environmental Protection Specialist, Office of Federal Activities.

[FR Doc. E7-17695 Filed 9-6-07; 8:45 am]

BILLING CODE 6560-50-P